DEPARTMENT OF THE INTERIOR

Bureau of Reclamation

[RR83550000, 212R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice is one of a variety of means used to inform the public about proposed contractual actions for capital recovery and management of project resources and facilities consistent with the Reclamation Project Act of 1939. Additional announcements of individual contract actions may be published in the Federal Register and in newspapers of general circulation in the areas determined by Reclamation to be affected by the proposed action.

ADDRESSES: The identity of the approving officer and other information pertaining to a specific contract proposal may be obtained by calling or writing the appropriate regional office at the address and telephone number given for each region in the SUPPLEMENTARY INFORMATION section of this notice.

FOR FURTHER INFORMATION CONTACT: Michelle Kelly, Reclamation Law Administration Division, Bureau of Reclamation, P.O. Box 25007, Denver, Colorado 80225-0007; mkelly@usbr.gov; telephone 303-445-2888.

SUPPLEMENTARY INFORMATION: Consistent with section 9(f) of the Reclamation Project Act of 1939, and the rules and regulations published in 52 FR 11954, April 13, 1987 (43 CFR 426.22), Reclamation will publish notice of proposed or amendatory contract actions for any contract for the delivery of project water for authorized uses in newspapers of general circulation in the affected area at least 60 days prior to contract execution. Announcements may be in the form of news releases, legal notices, official letters, memorandums, or other forms of written material. Meetings, workshops, and/or hearings may also be used, as appropriate, to provide local publicity. The public participation procedures do not apply to proposed contracts for the sale of surplus or interim irrigation water for a term of 1 year or less. Either of the contracting parties may invite the public to observe contract proceedings. All public participation procedures will be coordinated with those involved in complying with the National Environmental Policy Act. Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

ARRA American Recovery and Reinvestment Act of 2009

BCP Boulder Canyon Project

Reclamation Bureau of Reclamation

CAP Central Arizona Project

CUP Central Utah Project

CVP Central Valley Project

CRSP Colorado River Storage Project

XM Extraordinary Maintenance

EXM Emergency Extraordinary Maintenance

FR Federal Register

IDD Irrigation and Drainage District

ID Irrigation District

M&I Municipal and Industrial

O&M Operation and Maintenance

OM&R Operation, Maintenance, and Replacement

P-SMBP Pick-Sloan Missouri Basin Program

RRA Reclamation Reform Act of 1982

SOD Safety of Dams

SRPA Small Reclamation Projects Act of 1956

USACE U.S. Army Corps of Engineers

WD Water District

Missouri Basin—Interior Region 5: Bureau of Reclamation, P.O. Box 36900, Federal Building, 2021 4th Avenue North, Billings, Montana 59101, telephone 406-247-7752.

New contract actions:

44. Buford-Trenton ID; Buford-Trenton Project, P-SMBP; North Dakota: Consideration to amend long-term irrigation power repayment contract and project-use power contract to include additional acres.

45. Mid-Dakota Rural Water System, Inc., South Dakota: Consideration to amend Agreement No. 5-07-60-W0223 to reflect the payoff of loans.

Modified contract action:

20. Garrison Diversion Conservancy District; Garrison Diversion Unit, P-SMBP; North Dakota: Consideration of a contract for 165 cubic-feet-per-second of water for municipal, rural, and industrial purposes.

Discontinued contract action:

32. Midvale ID; Riverton Unit, P-SMBP; Wyoming: Consideration of a new M&I water service contract.

Completed contract actions:

11. Town of Shoshoni, P-SMBP, Wyoming: Consideration for renewal of contract No. 0-07-60-WS083. Contract executed on September 10, 2020.

37. Gering-Fort Laramie ID, North Platte Project, Wyoming and Nebraska: Consideration of repayment contract for EXM, funded pursuant to Subtitle G of Public Law 111-11. Contract executed on September 2, 2020.

42. Milk River Joint Board of Control, Milk River Project, Montana: Consideration of a repayment contract for EXM, funded pursuant to Subtitle G of Public Law 111-11. Contract executed on July 9, 2020.

Upper Colorado Basin—Interior Region 7: Bureau of Reclamation, 125 South State Street, Room 8100, Salt Lake City, Utah 84138-1102, telephone 801-524-3864.

New contract actions:

32. Navajo Tribal Utility Authority, Navajo-Gallup Water Supply Project, New Mexico: Reclamation is entering negotiations with the Navajo Tribal Utility Authority to provide excess capacity for non-project water, pursuant to Public Law 111-11, Section 10602(h).

33. Uintah Basin Water Conservancy District, CUP, Utah: Request for an exchange contract allowing for excess water from high flows originally diverted from Ashely Creek in the Spring into a water treatment facility to be stored in Steinaker Reservoir and exchanged for water flowing into Steinaker Reservoir later in the year after the high flows are gone. This water will be identified and contracted as M&I use water.

Discontinued contract action:

19. Strawberry High Line Canal Company, Strawberry Valley Project; Utah: The Strawberry High Line Canal Company has requested conversion of up to 20,000 acre-feet of irrigation water to be allowed for miscellaneous uses.

Completed contract actions:

22. Moon Lake Water Users Association, Uintah Basin Replacement Project, Central Utah Project, Utah: Title transfer agreement was executed on September 18, 2020.

24. Emery Water Conservancy District, Emery Project, Utah: Title transfer agreement was executed on September 18, 2020.

Lower Colorado Basin—Interior Region 8: Bureau of Reclamation, P.O. Box 61470 (Nevada Highway and Park Street), Boulder City, Nevada 89006-1470, telephone 702-293-8192.

New contract actions:

20. Ak-Chin Indian Community and Del Webb Corporation, CAP, Arizona: Execute a First Amendment to (Restated) Option and Lease among the Ak-Chin Indian Community, the Del Webb Corporation, and United States of America.

21. Brooke Water LLC and EPCOR Water Arizona Inc., BCP, Arizona: Enter into an assignment of Brooke's Colorado River water delivery contract to EPCOR, and a new contract with EPCOR that will supersede and replace its existing Colorado River water delivery contract.

Completed contract action:

8. Western Water, LLC and Ehrenberg Improvement District, BCP, Arizona: Review and approve a proposed partial assignment and transfer of Arizona fourth-priority Colorado River water in the amount of 85 acre-feet of water per year from Western Water to the District; amend Western Water's Colorado River water delivery contract No. 16-XX-30-W0619 to decrease its Colorado River water entitlement by 85 acre-feet of water per year from 621.48 to 536.48 acre-feet of water per year; and amend the District's Colorado River water delivery contract No. 8-07-30-W0006 to increase the District's Colorado River water entitlement by 85 acre-feet of water per year from 650 to 735 acre-feet of water per year. Contract executed on September 11, 2020.

Columbia-Pacific Northwest—Interior Region 9: Bureau of Reclamation, 1150 North Curtis Road, Suite 100, Boise, Idaho 83706-1234, telephone 208-378-5344.

Completed contract action:

11. Willow Creek District Improvement Company, Willow Creek Project, Oregon: Amend contract to increase the amount of storage water made available under the existing long-term contract from 2,500 to 3,500 acre-feet. Contract executed on August 12, 2020.

California-Great Basin—Interior Region 10: Bureau of Reclamation, 2800 Cottage Way, Sacramento, California 95825-1898, telephone 916-978-5250.

Modified contract actions:

2. Contractors from the Delta Division, Cross Valley Canal, San Felipe Division, West San Joaquin Division, San Luis Unit, and Elk Creek Community Services District; CVP; California: Renewal of 30 interim and long-term water service contracts; water quantities for these contracts total in excess of 2.1M acre-feet. These contract actions will be accomplished through long-term renewal contracts pursuant to Public Law 102-575. Prior to completion of negotiation of long-term renewal contracts, existing interim renewal water service contracts may be renewed through successive interim renewal of contracts.

12. San Luis WD, CVP, California: Proposed partial assignment of 4,604 acre-feet of the District's CVP supply to Santa Nella County WD for M&I use.

35. Placer County Water Agency and East Bay Municipal Utility District, CVP, California: Long-term Warren Act contracts for up to 47,000 acre-feet of water annually. Specifically, a contract with Placer County Water Agency for storage and conveyance in Folsom Reservoir, and a contract with East Bay Municipal Utility District for conveyance of non-project water through Folsom Canal South.

Completed contract actions:

42. Water user entities responsible for repayment of reimbursable project construction costs in California, Nevada, and Oregon: Contracts for conversion or prepayment executed pursuant to the Water Infrastructure Improvements for the Nation Act, Public Law 114-322, Sec. 4011(a-d). Contracts completed with East Bay Municipal Utility District; City of Folsom, Placer County Water Authority, City of Roseville, Sacramento County Water Authority, San Juan Water District, and Sacramento Municipal Utility District; CVP; California; on March 1, 2020.

Christopher J. Beardsley,
Director, Policy and Programs.

[FR Doc. 2020-25807 Filed 11-20-20; 8:45 am]

BILLING CODE 4332-90-P